DEPARTMENT OF DEFENSE

Department of the Army

Notice of Availability of the Final Environmental Impact Statement (FEIS) for Base Realignment and Closure (BRAC) and Enhanced Use Lease (EUL) Actions at Fort Meade, MD

AGENCY: Department of the Army, DoD.

ACTION: Notice of Availability (NOA).

SUMMARY: The Department of the Army announces the availability of the FEIS which evaluates the potential environmental impacts associated with realignment actions directed by the Base Realignment and Closure (BRAC) Commission and Army Enhanced Use Lease (EUL) Actions at Fort Meade, Maryland.

DATES: The waiting period for the FEIS will end 30 days after publication of an NOA in the Federal Register by the U.S. Environmental Protection Agency.

ADDRESSES: To obtain a copy of the FEIS contact the Public Affairs Office, Fort George G. Meade, 4550 Pershing Hall, Room 120, Fort Meade, MD 20755-5025. Send e-mails to meade.pao@conus.army.mil.

FOR FURTHER INFORMATION CONTACT: Ms. Melanie Moore at (301) 677-1361 during normal business hours Monday through Friday.

SUPPLEMENTARY INFORMATION: The Proposed Action, and subject of the FEIS, covers the movement of personnel associated with the BRAC realignment activities and associated construction activities. The FEIS also covers the impacts from the proposed federal real estate lease which would result in development to Army lands at Fort Meade under the Army's EUL program.

To implement the BRAC Commission recommended initiatives, Fort Meade will be receiving personnel, equipment, and missions from various realignment and closure actions within the U.S. Department of Defense. The Army will provide the necessary facilities/buildings and infrastructure to support the changes as recommended. Permanent facilities will be constructed to house the Defense Information Systems Agency (DISA), the DoD Media Activities (DMA), and the Adjudication and Office of Hearing and Appeals Offices, which are currently located in a mix of leased facilities and at government installations.

Additionally, Fort Meade plans to issue a real estate lease that allows the development of certain parcels through the Army's EUL program to help support mission-oriented uses on post, to derive value from underutilized property, to build future land value, and to enhance the installation's ability to implement its comprehensive master plan. Fort Meade proposes to lease to a private developer about 173 acres in two parcels for a term of 50 years and receive in-kind development of a 367-acre parcel. Because the development of these three parcels would have potential impacts in the same region as the BRAC realignment actions, it is considered in this FEIS. The two parcels that will be leased are located on installation property outside the fence line. The third parcel proposed for in-kind development is located within the fence line along the perimeter of the installation.

The FEIS addresses alternatives that include: (1) a No Action Alternative, (2) BRAC-Directed Realignment and EUL Actions, and (3) BRAC-Directed Actions. The Preferred Alternative is Alternative 2 which includes construction and operation of proposed facilities to accommodate incoming military missions at Fort Meade as mandated by the 2005 BRAC Commission recommendations and Army's EUL actions. Alternative sites on Fort Meade for placement of proposed BRAC facilities have also been evaluated. Alternative siting variations would provide similar impacts and benefits as compared to the Preferred Alternative. The No Action Alternative provides the baseline conditions for comparison to the Preferred Alternative.

As stated in the FEIS, implementation of the BRAC-Directed Realignment and EUL Actions, which is the Preferred Alternative, will result in long-term environmental impacts on transportation, land uses, socioeconomics areas (demographics, schools, and law enforcement), visual and aesthetic resources, biological (vegetation and wildlife), and utilities (wastewater and storm water drainage). Implementation of the Preferred Alternative would have short-term environmental impacts to visual and aesthetic resources, noise, energy sources, and solid waste disposal; and potential short-term indirect effects to surface water during construction activities. Implementation of the Preferred Alternative would have no significant impacts to air quality, geology and soils; water resources (groundwater, floodplains, and coastal zones); biological (rare, threatened, and endangered species and aquatic species); socioeconomics areas (economic development and housing); utilities (potable water, energy sources operations, solid waste operations); and hazardous and toxic substances. There would be no adverse impacts to surrounding land uses, cultural resources, socioeconomics areas (environmental justice, recreation, or protection of children), utilities (communications), and hazardous waste disposal from implementation of the BRAC and EUL Actions Alternative.

An electronic version of the FEIS can be viewed or downloaded from the following URL: http://www.hqda.army.mil/acsim/brac/nepa_eis_docs.htm.

Dated: September 11, 2007.
Addison D. Davis, IV,
Deputy Assistant Secretary of the Army, (Environment, Safety and Occupational Health).

[FR Doc. 07-4665 Filed 9-20-07; 8:45 am]

BILLING CODE 3710-08-M